DEPARTMENT OF HEALTH AND HUMAN SERVICES

Centers for Disease Control and Prevention

[30Day-23-1295]

Agency Forms Undergoing Paperwork Reduction Act Review

In accordance with the Paperwork Reduction Act of 1995, the Centers for Disease Control and Prevention (CDC) has submitted the information collection request titled “Public Health Accreditation Board (PHAB): Assessment of Processes and Outcomes” to the Office of Management and Budget (OMB) for review and approval. CDC previously published a “Proposed Data Collection Submitted for Public Comment and Recommendations” notice on September 12, 2022 to obtain comments from the public and affected agencies. CDC did not receive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Public Health Accreditation Board (PHAB): Assessment of Processes and Outcomes (OMB Control No. 0920-1295, Exp. 4/30/2023)—Extension—Center for State, Tribal, Local, and Territorial Support (CSTLTS), Centers for Disease Control and Prevention (CDC).

Background and Brief Description

The Centers for Disease Control and Prevention (CDC) works to protect America from health, safety, and security threats, both foreign and domestic. CDC strives to fulfill this mission, in part, by supporting state, tribal, local, and territorial (STLT) health departments. One mechanism for supporting STLT health departments is through CDC's support of a national, voluntary accreditation program.

CDC supports the Public Health Accreditation Board (PHAB), a non-profit organization that serves as the independent accrediting body. PHAB, with considerable input from national, state, tribal, and local public health professionals, developed a consensus set of standards to assess the capacity of STLT health departments. Between February 2013 (when the first health department was accredited) and November 2022, 40 state health departments, 315 local health departments, six Tribal health departments, and one integrated system (comprised of 67 local health departments in one centralized state) have been accredited. Accreditation is granted for a five-year period and 91 health departments have successfully completed the reaccreditation process. Formal efforts to assess the outcomes of the accreditation program began in late 2012 and continue to date. Priorities focus on gathering feedback for program improvement and documenting program outcomes to demonstrate impact and inform decision making about future program direction. From 2012-2019, the Robert Wood Johnson Foundation (RWJF) and the social science organization NORC at the University of Chicago, led evaluation efforts. CDC assumed support of the evaluation beginning in 2020 and is seeking OMB approval to continue data collection.

The purpose of this Information Collection Request (ICR) is to support the collection of information from participating health departments through a series of five surveys. The surveys seek to collect longitudinal data on each health department throughout their accreditation process. Data collected through this ICR provides documentation about the evidence and value of health department accreditation.

Respondents will include STLT health department directors or designees, one respondent per each health department. All surveys will be administered electronically; a link to the survey website will be provided in an email invitation. The surveys will be administered on a quarterly basis and sent to all health departments that reach any of five milestones in the accreditation process (application, recently accredited, accredited for one year, approaching reaccreditation, and reaccreditation). Each health department will be invited to participate in each survey once (for a total of five surveys max per health department).

CDC requests OMB approval for an estimated 100 annual burden hours. There are no costs to respondents other than their time to participate.

Estimated Annualized Burden Hours
Type of respondents | Form name | Number of respondents | Number of responses per respondent | Average burden per response (in hours)
STLT HD Directors or Designee | Survey 1: Applicant HDs | 60 | 1 | 20/60
STLT HD Directors or Designee | Survey 2: Recently Accredited HDs | 60 | 1 | 20/60
STLT HD Directors or Designee | Survey 3: HDs Accredited One Year | 60 | 1 | 20/60
STLT HD Directors or Designee | Survey 4: HDs Approaching Reaccreditation | 60 | 1 | 20/60
STLT HD Directors or Designee | Survey 5: Reaccredited HDs | 60 | 1 | 20/60

Jeffrey M. Zirger,
Lead, Information Collection Review Office, Office of Scientific Integrity, Office of Science, Centers for Disease Control and Prevention.

[FR Doc. 2023-02948 Filed 2-9-23; 8:45 am]

BILLING CODE 4163-18-P